NATIONAL SCIENCE FOUNDATION

Sunshine Act Meetings

The National Science Board's NSB-NSF Commission on Merit Review (MRX), Committee on Awards and Facilities (A&F), and Committee on Strategy (CS) hereby give notice of the scheduling of meetings for the transaction of National Science Board business pursuant to the National Science Foundation Act and the Government in the Sunshine Act.

TIME AND DATE: The three meetings will be held on Tuesday, February 20, 2024. The MRX meeting will be held from 9:00 a.m.-12:00 p.m. Eastern. The A&F meeting will be held from 1:00 p.m.-2:00 p.m. and will resume at 3:30 p.m.-5:00 p.m. Eastern. The joint A&F and CS meeting will be held from 2:00 p.m.-3:30 p.m. Eastern.

PLACE: The meetings will be held virtually and in person at NSF headquarters, 2145 Eisenhower Ave., Alexandria, VA 22314, and by videoconference.

STATUS: The meetings are closed to the public.

MATTERS TO BE CONSIDERED:

MRX agenda: Commission Chair's opening remarks; Discussion of Big Ten Listening Session; Discussion of Preliminary Recommendations and Suggestions; and Closing remarks.

A&F agenda: Opening Remarks: Context of National Solar Observatory Operations and Management Award; and Discussion of ASTRO2020 Decadal Recommendations and vote on proposed resolution.

Joint A&F/CS agenda: Opening Remarks by committee chairs; Discussion of Budget Context and Planning for Future Major Facilities; and Discussion of Next Steps.

CONTACT PERSON FOR MORE INFORMATION: Point of contact for this meeting is: Michelle McCrackin, mmccrack@nsf.gov, (703) 292-7000. Members of the public can observe the public portion of this meeting through a YouTube livestream. The link is: https://www.youtube.com/watch?v=dU9-rjFpghM. Meeting information and updates may be found at www.nsf.gov/nsb.

Ann E. Bushmiller,
Senior Legal Counsel to the National Science Board.

[FR Doc. 2024-03558 Filed 2-16-24; 11:15 am]

BILLING CODE 7555-01-P